DEPARTMENT OF COMMERCE

National Oceanic and Atmospheric Administration

RIN 0648-XB051

Threatened Species; Take of Anadromous Fish

AGENCY: National Marine Fisheries Service (NMFS), National Oceanic and Atmospheric Administration (NOAA), Commerce.

ACTION: Notice; issuance of an Endangered Species Act (ESA) Section 10(a)(1)(B) Incidental Take Permit and Availability of a Final Environmental Impact Statement (EIS) and Record of Decision (ROD) for the Placer County Conservation Program.

SUMMARY: Notice is hereby given that NMFS has adopted U.S. Fish & Wildlife Service's (USFWS) Placer County Conservation Program Final Environmental Impact Statement/Environmental Impact Report (FEIS/EIR), issued a ROD, and prepared an Incidental Take Permit (ITP) (No. 25641) for the incidental take of California Central Valley (CCV) steelhead (Oncorhynchus mykiss) and Central Valley (CV) fall and late fall-run Chinook salmon (O. tshawytscha) associated with the proposed Placer County Conservation Program (PCCP). The PCCP was prepared by the local agencies that will become permittees (Placer County, City of Lincoln, South Placer Regional Transportation Authority, Placer County Water Agency, and Placer Conservation Authority) and describes Covered Activities and conservation activities in Placer County. The permit is issued for a duration of 50 years.

ADDRESSES: The incidental take permit, final environmental impact statement, and other related documents are available on the NMFS West Coast Region website at: https://www.fisheries.noaa.gov/resource/document/placer-county-conservation-program-biological-opinion. The Final EIS and ROD are available at https://www.fisheries.noaa.gov/west-coast/laws-and-policies/esa-section-10-habitat-conservation-nepa-documents.

FOR FURTHER INFORMATION CONTACT: Neal McIntosh, Sacramento, CA, at phone number: (916) 930-5647, or via email: Neal.McIntosh@noaa.gov.

SUPPLEMENTARY INFORMATION:

ESA-Listed Species & Species of Concern Covered in This Notice

CCV steelhead (Oncorhynchus mykiss)

CV fall/late fall-run Chinook salmon (O. tshawytscha)

Background

The permittees are seeking coverage under Section 10(a)(1)(B) of the ESA for the implementation of the PCCP in Placer County in California's Central Valley. Western Placer County streams serve as an important source of water for fish, agriculture, and municipal uses in Placer County. These streams also provide valuable habitat, including critical habitat and essential fish habitat, for CCV steelhead and Chinook salmon. Implementation of the Covered Activities described in the PCCP may result in impacts to listed species and species of concern and their habitat within Placer County. Therefore, the permittees are required to work collaboratively with NMFS to minimize these impacts through implementation of the PCCP upon issuance of the Section 10(a)(1)(B) Permit.

On June 21, 2019, USFWS published a notice of availability of a draft joint HCP/NCCP and draft EIS/EIR for this project to the Federal Register for public comment and review with a 60-day public comment period (84 FR 29224). USFWS published a final EIS to the Federal Register on May 22, 2020, with a 30-day public comment period (85 FR 31203). On December 2, 2020, consultation was initiated with NMFS for the issuance of an ITP for the PCCP. USFWS received several comments, and these comments were addressed as changes to the Final EIS/EIR or as a response in the Final EIS/EIR appendix. On March 12, 2021, NMFS notified the EPA of its adoption of USFWS's EIS/EIR, EPA published the notice of adoption on March 19, 2021. The requested permit has been issued under the authority of the ESA of 1973. This permit authorizes the incidental take of listed species as set forth in the PCCP and the ITP for a 50-year period.

Conservation Plan

Section 10 of the ESA specifies that no permit may be issued unless an applicant submits an adequate conservation plan. The PCCP utilizes a combination of conservation measures that are expected to minimize and mitigate the impacts of take of the anadromous species addressed in the PCCP. The PCCP includes an administrative framework that supports the development, implementation, and refinement of the minimization and mitigation measures. The PCCP also includes a variety of protection measures designed to restore and maintain riverine, riparian, and upslope processes that create, restore, and maintain aquatic habitat. The PCCP's Conservation Strategy includes four main components: (1) Establishment of a reserve system of interconnected blocks of land (reserve system), (2) Stream protection, enhancement, and avoidance, (3) Wetland conservation and no overall net loss of wetland functions and services, and (4) Avoidance and minimization measures.

Chapter 7 of the PCCP describes the monitoring and adaptive management framework for the PCCP. The framework will guide the development of a comprehensive monitoring program, which will be developed during the first five years of the PCCP implementation and as individual parcels are acquired for the reserve system. The framework and final monitoring program are intended to verify take is not being exceeded, ensure compliance with PCCP requirements, assess the status of Covered Species and natural communities within the reserve system, evaluate the effects of management actions, and assess whether the PCCP's biological goals and objectives are being achieved.

There are three main sources of funding for the PCCP: Plan development fees (includes land conversion fee, special habitat fees, and temporary effects fee), local funding, and state and Federal funding. NMFS considers the PCCP's development fees as an assured source of funding because Placer County and the City of Lincoln will adopt ordinances to implement the fees described in the habitat conservation plan.

Permit 25641

NMFS authorizes the following lethal incidental takes of CCV steelhead (threatened) and CV fall- and late fall-run Chinook salmon (unlisted):

• Trapping and handling for research and monitoring: 5 CCV steelhead juveniles and 10 Chinook salmon per year;

• Fish capture and relocation: less than 3% incident mortality;

• Responses that result from habitat disturbance (i.e., contaminants, turbidity, construction disturbance, acoustic impacts, disturbance to riparian and riverine habitat; take measured via surrogate of permanent physical disturbance): 655 acres or temporary disturbance of 165 acres of combined riparian/riverine habitat; and

• Take of fish or eggs from other activities (measures via surrogate trail acreage): Approximately 50 acres of trails.

To ensure that the mitigation and minimization strategies are effective, the PCCP incorporates a variety of monitoring, research, and reporting components that will provide feedback for use by adaptive management provisions. Based on this information, adjustments can be made to the conservation management activities set forth in chapter 5 of the PCCP.

Take authorization will become effective for the currently unlisted species covered by this permit concurrent with the listing of those species under the ESA.

Authority

Section 9 of the ESA and Federal regulations prohibit the “taking” of a species listed as endangered or threatened. The ESA defines “take” to mean harass, harm, pursue, hunt, shoot, wound, kill, trap, capture, or collect, or to attempt to engage in any such conduct. NMFS may issue permits, under limited circumstances, to take listed species incidental to, and not the purpose of, otherwise lawful activities. Section 10(a)(1)(B) of the ESA provides for authorizing incidental take of listed species. NMFS regulations governing permits for threatened and endangered species are promulgated at 50 CFR 222.307.

Dated: April 28, 2021.
Margaret H. Miller,
Acting Chief, Endangered Species Division, Office of Protected Resources, National Marine Fisheries Service.

[FR Doc. 2021-09297 Filed 5-3-21; 8:45 am]

BILLING CODE 3510-22-P